DEPARTMENT OF COMMERCE

National Oceanic and Atmospheric Administration

[I.D. 071504E]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in August, 2004 to consider actions affecting New England fisheries in the exclusive economic zone (EEZ). Recommendations from this group will be brought to the full Council for formal consideration and action, if appropriate.

DATES: The meeting will be held on Monday, August 9, 2004, at 9:30 a.m.

ADDRESSES: The meeting will be held at the Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council (978) 465-0492.

SUPPLEMENTARY INFORMATION: The Groundfish Committee will meet to develop the details of the management measures that will be included in Framework Adjustment 40B to the Northeast Multispecies Fishery Management Plan (FMP). Framework 40B will include measures that provide additional fishing opportunities that target healthy stocks and will address several other issues identified since the approval of Amendment 13. The specific measures that will be considered in this framework include: revisions to the conservation tax for the days-at-sea (DAS) leasing and transfer programs, eliminating the tonnage upgrade restriction from the DAS transfer program, allocating a minimum number of Category B (reserve) DAS to vessels that did not receive any Category A or B DAS under Amendment 13, creating a haddock Special Access Program (SAP) north of Closed Area I, developing a mechanism to provide a DAS credit for standing by entangled whales, making a change to the season for the Closed Area II Yellowtail Flounder SAP, revising the allocation formula for the GB Cod Hook Sector, and creating a SAP to target haddock in the Western Gulf of Maine Closed Area using rod and reel. The Committee will identify the specific details for the proposed measures, will group the measures into distinct alternatives, and will develop recommendations for the Total Allowable Catches of stocks of concern that will be allocated to the proposed and existing SAPs. The Committee may also provide additional guidance to the Plan Development Team for the analysis of these measures.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: July 16, 2004.
Alan D. Risenhoover,
Acting Director, Office of Sustainable Fisheries, National Marine Fisheries Service.

[FR Doc. E4-1626 Filed 7-20-04; 8:45 am]

BILLING CODE 3510-22-S